Proclamation 8552 of August 31, 2010

National Prostate Cancer Awareness Month, 2010

By the President of the United States of America

A Proclamation

Although its mortality rate has steadily fallen in the last decade, prostate cancer is still the second leading cause of cancer deaths among men in the United States. This year alone, nearly 218,000 men will be diagnosed with prostate cancer, and more than 32,000 men will die from this disease. National Prostate Cancer Awareness Month gives us the opportunity to renew our commitment to fight this disease by finding better ways to prevent, detect, and treat it.

The exact causes of prostate cancer are not known, but awareness can help men make more informed choices about their health. Researchers have identified several factors that may increase a man’s risk of developing prostate cancer, including age, race, and family history. According to the National Cancer Institute, avoiding smoking, losing weight, maintaining a healthy diet, and exercising may all help prevent certain cancers. We must ensure that more men are informed about all aspects of this disease, including early detection and possible treatment. I encourage men to talk with their doctors about risk factors, prevention, and preventative screenings. And I invite all Americans to visit Cancer.gov for more information and resources about the symptoms, diagnosis, and treatment of prostate and other cancers.

Until we find a cure for this disease, my Administration will continue promoting awareness of this illness and supporting prostate cancer research and treatment, including research to help determine why prostate cancer affects some racial and ethnic groups more than others. The National Cancer Institute, the Centers for Disease Control and Prevention, and the Department of Defense all play vital roles in reducing the burden of prostate cancer through critical investments in research. The health care reforms included in the landmark Affordable Care Act also address specific needs of individuals fighting cancer, including removing annual and lifetime caps on insurance coverage, prohibiting insurance companies from dropping coverage after an individual gets sick, and guaranteeing insurance coverage for individuals participating in clinical trials, the cornerstone of cancer research.

As we observe National Prostate Cancer Awareness Month, we stand by the fathers, brothers, husbands, and sons battling prostate cancer, as well as their families and the health care providers, researchers, and advocates who are working to combat this disease and save lives. By joining together to raise awareness of prostate cancer and supporting research, we can continue to make progress against this devastating disease.

NOW, THEREFORE, I, BARACK OBAMA, President of the United States of America, by virtue of the authority vested in me by the Constitution and the laws of the United States, do hereby proclaim September 2010 as Prostate Cancer Awareness Month. I encourage all citizens, Government agencies, private businesses, nonprofit organizations, and other groups to join in activities that will increase awareness and prevention of prostate cancer.

IN WITNESS WHEREOF, I have hereunto set my hand this thirty-first day of August, in the year of our Lord two thousand ten, and of the Independence of the United States of America the two hundred and thirty-fifth.

[FR Doc. 2010-22429

Filed 9-3-10; 11:15 am]

Billing code 3195-W0-P